FEDERAL COMMUNICATIONS COMMISSION

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before May 6, 2013. If you anticipate that you will be submitting comments, but find it difficult to do so within the period of time allowed by this notice, you should advise the contact listed below as soon as possible.

ADDRESSES: Direct all PRA comments to the Federal Communications Commission via email to PRA@fcc.gov and Cathy.Williams@fcc.gov.

FOR FURTHER INFORMATION CONTACT: For additional information about the information collection, contact Cathy Williams at (202) 418-2918.

SUPPLEMENTARY INFORMATION: OMB Approval Number: 3060-1153.

Title: Satellite Digital Audio Radio Service (SDARS).

Form Number: Not applicable.

Type of Review: Revision of a currently approved information collection.

Respondents: Businesses or other for-profit entities.

Number of Respondents and Responses: 1 respondent and 54 responses.

Estimated Time per Response: 3-12 hours.

Frequency of Response: Annual reporting requirement; Recordkeeping requirement; Third-party disclosure requirement; On occasion reporting requirement.

Total Annual Burden: 308 hours.

Total Annual Costs: $97,710.

Nature and Extent of Confidentiality: There is no need for confidentiality with this collection of information.

Obligation To Respond: Required to obtain or retain benefits. The Commission has statutory authority for the information collection requirements under Sections 4, 301, 302, 303, 307, 309 and 332 of the Communications Act, as amended, and 47 U.S.C. Sections 154, 301, 302a, 303, 307, 309, and 332.

Privacy Assessment: No impact(s).

Needs and Uses: The Federal Communications Commission (“Commission”) is seeking approval from Office of Management and Budget (OMB) to revise OMB Control No. 3060-1153 to reflect new and/or modified information collections as a result of an Order on Reconsideration titled “In the Matter of Amendment of Part 27 of the Commission's Rules to Govern the Operation of Wireless Communications Services in the 2.3 GHz Band; Establishment of Rules and Policies for the Digital Audio Radio Satellite Service in the 2310-2360 MHz Frequency Band,” WT Docket No. 07-293, IB Docket No. 95-91 (FCC 12-130).

On October 17, 2012, the Commission adopted and released an Order on Reconsideration that addressed five petitions for reconsideration of the 2010 WCS R&O and SDARS 2nd R&O. The petitions sought reconsideration or clarification of the Commission's decisions in the 2010 WCS R&O and SDARS 2nd R&O regarding the technical and policy rules governing the operation of WCS stations in the 2305-2320 MHz and 2345-2360 MHz bands and the operation of SDARS terrestrial repeaters in the 2320-2345 MHz band.

As part of the Order on Reconsideration, the Commission adopted proposals to relax the notification requirements for SDARS licensees under Sections 25.263(b) & (c) of the Commission's rules. As adopted in the 2010 WCS R&O and SDARS 2nd R&O, Section 25.263(b) requires SDARS licensees to share with WCS licensees certain technical information at least 10 business days before operating a new repeater, and at least 5 business days before operating a modified repeater. Under Section 25.263(c), SDARS licensees operating terrestrial repeaters must maintain an accurate and up-to-date inventory of all terrestrial repeaters, including the information set forth in 25.263(c)(2) for each repeater, which must be made available to the Commission upon request.

The following modified information collections are contained in the Order on Reconsideration:

47 CFR 25.263(b)—SDARS licensees are required to provide informational notifications as specified in 25.263, including a requirement that SDARS licensees must share with WCS licensees certain technical information at least 10 business days before operating a new repeater, and at least 5 business days before operating a modified repeater; exempting modifications that do not increase the predicted power flux density at ground level by more than one decibel (dB) (cumulative) and exempting terrestrial repeaters operating below 2 watts equivalent isotropically radiated power.

47 CFR 25.263(c)—SDARS licensees operating terrestrial repeaters must maintain an accurate and up-to-date inventory of terrestrial repeaters operating above 2 W EIRP, including the information set forth in 25.263(c)(2) for each repeater, which shall be made available to the Commission upon request. Requirement can be satisfied by maintaining inventory on a secure Web site that can be accessed by authorized Commission staff.

The information collection requirements contained in Section 25.263 are necessary to determine the potential of radiofrequency interference from SDARS terrestrial repeaters to WCS stations. Without such information, the Commission would be unable to fulfill its statutory responsibilities in accordance with the Communications Act of 1934, as amended.

Federal Communications Commission.
Marlene H. Dortch,
Secretary.

[FR Doc. 2013-05197 Filed 3-5-13; 8:45 am]

BILLING CODE 6712-01-P